ENVIRONMENTAL PROTECTION AGENCY

40 CFR Part 52

[EPA-R05-OAR-2017-0099 FRL-9977-21—Region 5]

Air Plan Approval; Minnesota; Flint Hills Sulfur Dioxide (SO2) Revision

AGENCY: Environmental Protection Agency (EPA).

ACTION: Proposed rule.

SUMMARY: The Environmental Protection Agency (EPA) is proposing to approve a revision to the Minnesota sulfur dioxide (SO2) State Implementation Plan (SIP) for the Flint Hills Resources, LLC Pine Bend Refinery (FHR) as submitted on February 8, 2017. The proposed SIP revision pertains to the introduction and removal of certain equipment at the refinery as well as amendments to certain emission limits, resulting in an overall decrease of SO2 emissions from FHR.

DATES: Comments must be received on or before May 29, 2018.

ADDRESSES: Submit your comments, identified by Docket ID No. EPA-R05-OAR-2017-0099 at https://www.regulations.gov or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov.

SUPPLEMENTARY INFORMATION: Throughout this document whenever “we,” “us,” or “our” is used, we mean EPA. This supplementary information section is arranged as follows:

I. What is the background for this action?

II. What is EPA's analysis of the SIP revision?

a. Coker Replacement

b. #4 Hydrogen Plant Reformer—30H401 Furnace

c. Diesel Fire Water Pump at #4 Cooling Tower

d. #3 Crude/Coker Improvements

e. Cleanup

III. SO2 SIP and Emissions Impacts

IV. What action is EPA proposing?

V. Incorporation by Reference

VI. Statutory and Executive Order Reviews

I. What is the background for this action?

FHR operates an oil refinery located in the Pine Bend Area of Rosemount, Dakota County, Minnesota. On February 8, 2017, the Minnesota Pollution Control Agency (MPCA) submitted a request to EPA to approve into the Minnesota SIP the conditions cited as “Title I Condition: 40 CFR 50.4(SO2 SIP); Title I Condition: 40 CFR 51; Title I Condition: 40 CFR pt. 52, subp. Y” in FHR's revised joint Title I/Title V document, Permit No. 03700011-101 ¹ (joint document 101). Joint document 101 contains measures for FHR to implement changes that improve technology at the plant and increase efficiency through new and existing equipment, as well as clarifying amendments to the document's language. MPCA posted joint document 101 for public comment in the Minnesota State Register on November 21, 2016, and the comment period ended on December 23, 2016. MPCA received no comments on the document.

¹ In 1995, EPA approved consolidated permitting regulations into the Minnesota SIP. (60 FR 21447, May 2, 1995). The consolidated permitting regulations included the term “Title I condition” which was written, in part, to satisfy EPA requirements that SIP control measures remain permanent and enforceable. A “Title I condition” is defined, in part, as “any condition based on source specific determination of ambient impacts imposed for the purpose of achieving or maintaining attainment with a national ambient air quality standard and which was part of a [SIP] approved by the EPA or submitted to the EPA pending approval under section 110 of the act. . .” MINN. R. 7007.1011 (2013). The regulations also state that “Title I conditions and the permittee's obligation to comply with them, shall not expire, regardless of the expiration of the other conditions of the permit.” Further, “any title I condition shall remain in effect without regard to permit expiration or reissuance, and shall be restated in the reissued permit.” MINN. R. 7007.0450 (2007). Minnesota has initiated using the joint Title I/Title V document as the enforceable document for imposing emission limitations and compliance requirements in SIPs. The SIP requirements in the joint Title I/Title V document submitted by MPCA are cited as “Title I conditions,” therefore ensuring that SIP requirements remain permanent and enforceable. EPA reviewed the state's procedure for using joint Title I/Title V documents to implement site specific SIP requirements and found it to be acceptable under both Title I and Title V of the Clean Air Act (July 3, 1997 letter from David Kee, EPA, to Michael J. Sandusky, MPCA).

II. What is EPA's analysis of the SIP revision?

Joint document 101, issued by MPCA on January 13, 2017, contains amended SIP conditions that, when combined, provide FHR with the ability to more efficiently upgrade hydrocarbons that are distilled from FHR's crude units into transportation fuels, primarily diesel. The amended SIP conditions allow FHR to increase fuel production and operate more efficiently and closer to the facility's overall distillation capacity. See Table 1 at the end of our review for a list of detailed changes to SO2 allowable emissions limits associated with this action. The amended SIP conditions in joint document 101 include:

a. Coker Replacement.

A coker replacement project consists of the installation of a new coker process unit (#4 Coker Unit Charge Heater/EQUI1456) into joint document 101. The new #4 Coker will replace the #1 and #2 Cokers, which will be permanently retired. In addition to their retirement, the SIP condition that lists the decoking scenario in which the #1 and #2 cokers' associated process units operate simultaneously with 21H1 Steam/Air Heater Decoking unit (EQUI 493) and 21H2 Steam/Air Heater Decoking unit (EQUI 494) is being removed from joint document 101.

b. #4 Hydrogen Plant Reformer—30H401 Furnace.

The allowable SO2 emissions limit on the 30H401 furnace for the #4 Hydrogen Plant Reformer is being lowered. This is because the originally approved allowable SO2 limit for the heater assumed that it would operate on refinery fuel gas. Since start-up, the unit has primarily been operated on pressure swing adsorption offgas, which originates as a natural gas ahead of the reformer and does not contain sulfur. Because of the dual-fuel operation of the heater, its allowable SO2 limit has been reduced to meet actual operating conditions.

c. Diesel Fire Water Pump at #4 Cooling Tower.

The diesel fire water pump at the #4 cooling tower was decommissioned and so its SO2 emission limits are removed from joint document 101.

d. #3 Crude/Coker Improvements.

Improvements to the #3 crude/coker that were incorporated as “Title I Condition: 40 CFR 50.4(SO2 SIP); Title I Condition: 40 CFR 51; Title I Condition: 40 CFR pt. 52, subp. Y” conditions in a previous joint Title I/Title V document (Permit No. 03700011-010) have been completed and as a result, SIP conditions for three process heaters (EQUI495/EU034, EQUI496/EU035, and EQUI500/EU040) and two process heaters for steam-air decoking activities (EQUI498/EU037 and EQUI499/EU038) are being removed from joint document 101.

e. Cleanup.

MPCA also requested to remove from the Minnesota SIP an emission limit for the ammonium thiosulfate process unit that was erroneously labeled as a “Title I Condition: 40 CFR 50.4(SO2 SIP); Title I Condition: 40 CFR 51; Title I Condition: 40 CFR pt. 52, subp. Y” condition in the prior joint Title I/Title V document, Permit No. 3700011-12 (joint document 12). EPA had approved joint document 12 into the Minnesota SIP on June 27, 2016 (81 FR 41447). The state-based SO2 limit for EQUI574 at condition 5.162.4 in joint document 12 are revised to be labeled a “Minn. R. 7009.0080” Title V condition in joint document 101. This is acceptable because the federal SO2 standards are still contained in joint document 101 and the erroneous condition incorporated into joint document 12 at 81 FR 41447 does not affect FHR's ability to meet the SO2 NAAQS.

III. SO2 SIP and Emissions Impacts

Joint document 101 removes SIP conditions for equipment that have been approved for shutdown and decommissioning in joint document 12, and that have been decommissioned from FHR and are no longer necessary. Joint document 101 also strengthens the Minnesota SIP by requiring new or more stringent limits on equipment. As shown in Table 1, for the 3-hour, 24-hour, and annual SO2 standards, allowable emissions are decreased by 95.402 lb/hr, 95.402 lb/hr, and 249.169 tpy, respectively, from the impact of the revisions to joint document 101. Joint document 101 becomes effective upon the effective date of EPA's approval of MPCA's February 8, 2017, request.

Table 1—Summary of Changes to Allowable SO2 Emissions in Joint Document 101
Unit | Section in permit | Change to allowable in lb/hr (1-hr and 24-hr standards) | Change to allowable in tpy (annual standard)
COMG 28/GP 011/Diesel engines w/SIP conditions | 5.23.3 | −0.002 | −0.009
EQUI 471/EU 296/#4 Hydrogen Plant Reformer—Refining Equipment | 5.122.4 | −69.4 | −243.3
| 5.122.8 | 22.7 | 79.7
EQUI 495/EU 034/#3 Coker Heater—Process Heater | 5.133.1 | −12.7 | −44.6
EQUI496/EU 035/#3 Coker Heater—Process Heater | 5.134.1 | −9.4 | −13.4
EQUI 498/EU 037/Steam/Air Heater Decooking 23H-1—Process Heater | 5.135.1 | −20.2 | −4.26
EQUI 500/EU 040/#3 Crude Unit Charge Heater—Process Heater | 5.137.1 | −19.5 | −54.3
EQUI 1456/EQUI 24H-1/no description | 5.163.13 | 13.1 | 31
Total Change |  | −95.402 | −249.169

Joint document 101 is approvable because EPA's review of the revised document shows that reductions of allowable SIP-based SO2 emissions, and strengthening of the Minnesota SIP will occur through corrections, clarifications, and revisions made since approval of joint document 12.

IV. What action is EPA proposing?

EPA is proposing to approve a revision to Minnesota's SO2 SIP for FHR, as submitted by MPCA on February 8, 2017, and reflected in conditions labeled “Title I Condition: 40 CFR 50.4(SO2 SIP); Title I Condition: 40 CFR 51; Title I Condition: 40 CFR pt. 52, subp. Y” in joint document 101.

V. Incorporation by Reference

In this rule, EPA proposes to include in a final EPA rule regulatory text that includes incorporation by reference. In accordance with requirements of 1 CFR 51.5, EPA proposes to incorporate by reference all the conditions in Minnesota Permit No. 03700011-101 cited as “Title I Condition: 40 CFR 50.4(S02 SIP); Title I Condition: 40 CFR 51; Title I Condition: 40 CFR pt. 52, subp. Y”, effective January 13, 2017. EPA has made, and will continue to make, these documents generally available through www.regulations.gov, and at the EPA Region 5 Office (please contact the person identified in the “For Further Information Contact” section of this preamble for more information).

VI. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Reporting and recordkeeping requirements, Sulfur oxides.

Dated: April 18, 2018.
Cathy Stepp,
Regional Administrator, Region 5.

[FR Doc. 2018-08807 Filed 4-25-18; 8:45 am]

BILLING CODE 6560-50-P